FEDERAL RETIREMENT THRIFT INVESTMENT BOARD

Sunshine Act; Notice of Meeting

TIME AND DATE: 10 a.m. (Eastern Time), March 28, 2011.

PLACE: 4th Floor Conference Room, 1250 H Street, NW., Washington, DC 20005.

STATUS: Parts will be open to the public and parts closed to the public.

MATTERS TO BE CONSIDERED:

Parts Open to the Public

1. Approval of the minutes of the February 28, 2011 Board member meeting.

2. Thrift Savings Plan activity report by the Executive Director:

a. Monthly Participant Activity Report;

b. Monthly Investment Performance Report;

c. Legislative Report.

3. Communication Awards.

4. Audit Report Discussion.

5. Audit Findings Summary Report.

6. Department of Labor Audit Briefing.

7. Roth Project Update.

Parts Closed to the Public

8. Security.

9. Personnel.

CONTACT PERSON FOR MORE INFORMATION: Thomas J. Trabucco, Director, Office of External Affairs, (202) 942-1640.

Dated: March 18, 2011.
Thomas K. Emswiler,
Secretary, Federal Retirement Thrift Investment Board.

[FR Doc. 2011-6875 Filed 3-18-11; 4:15 pm]

BILLING CODE 6760-01-P